DEPARTMENT OF ENERGY

Federal Energy Regulatory Commission

Notice of Application Tendered for Filing With the Commission, Establishing Procedures for Relicensing, and a Deadline for Submission of Final Amendments

January 30, 2001.

Take notice that the following hydroelectric application has been filed with the Commission and is available for public inspection.

a. Type of Application: New Major License.

b. Project No.: P-271-062.

c. Date Filed: December 18, 2000.

d. Applicant: Entergy Arkansas, Inc.

e. Name of Project: Carpenter-Remmel Hydroelectric Project.

f. Location: Located on the Ouachita River in Garland and Hot Spring Counties, Arkansas, and immediately downstream from the U.S. Army Corps of Engineers Blakely Mountain Dam. The Carpenter-Remmel Hydroelectric Project includes the Carpenter development at river mile 461 and the Remmel development at river mile 450. There are 34.3 acres of federally owned lands within the project boundary around Lake Hamilton which are under the supervision of the U.S. Army Corps of Engineers.

g. Filed Pursuant to: Federal Power Act 16 U.S.C. §§ 791(a)-825(r).

h. Applicant Contact: Mr. W. Henry Jones, Relicensing Project Manager, Entergy Fossil Operations, P.O. Box 218, Jones Mills, AR 72105, (501) 844-2148 or email: wjones7@Entergy.com.

Mr. Hugh T. McDonald, President, Entergy Arkansas, Inc., 425 West Capitol Avenue, Little Rock, AR 72201, (501) 377-4372.

i. FERC Contact: Ed Lee, (202) 219-2809 or E-Mail ed.lee@ferc.fed.us.

All documents (original and eight copies) should be filed with: David P. Boergers, Secretary, Federal Energy Regulatory Commissions, 888 First Street, NE, Washington, DC 20426. Comments and protests may be filed electronically via the internet in lieu of paper. See 18 CFR 385.2001(a)(1)(iii) and the instructions on the Commission's web site at http://www.ferc.fed.us/efi/doorbell.htm.

j. The existing Carpenter-Remmel Project consists of two developments: (1) the 56,000-kilowatt (kW) Carpenter Development located furthest upstream; and (2) the 9,300-kW Remmel Development located approximately 11.78 miles downstream. The project has a total installed capacity of 65,300-kW and an average annual generation of about 188,800 megawatt hours. All generated power is utilized within the applicant's electric utility system.

k. A copy of the application is available for inspection and reproduction at the Commission's Public Reference Room, located at 888 First Street, NE, Room 2-A, Washington, D.C. 20426, or by calling (202) 208-1371. The application may be viewed on http://www.ferc.fed.us/online/rims.htm (call (202) 208-2222 for assistance). A copy is also available for inspection and reproduction at the address in item h above.

l. Procedural schedule and final amendments: The applicants will be processed according to the following milestones, some of which may be combined to expedite processing:

Notice of application has been accepted for filing

Notice soliciting final terms and conditions

Notice of the availability of the draft NEPA document

Notice of the availability of the final NEPA document

Order issuing the Commission's decision on the application

Final amendments to the application must be filed with the Commission no later than 45 days from the issuance date of the notice soliciting final terms and conditions.

David P. Boergers,
Secretary.

[FR Doc. 01-2924 Filed 2-2-01; 8:45 am]

BILLING CODE 6717-01-M